DEPARTMENT OF TRANSPORTATION

Surface Transportation Board

[STB Docket No. AB-331 (Sub-No. 1X]

Bi-State Development Agency of the Missouri-Illinois Metropolitan District—Discontinuance of Service Exemption—in the City of St. Louis, MO

On November 2, 2009, Bi-State Development Agency of the Missouri-Illinois Metropolitan District (Bi-State) filed with the Surface Transportation Board a petition under 49 U.S.C. 10502 for exemption from the provisions of 49 U.S.C. 10903 to discontinue service over a 1.43-mile line of railroad extending from milepost 1.8 in St. Louis, MO, to milepost 3.23 in St. Louis, MO. The line traverses U.S. Postal Service Zip Codes 63110 and 63108.¹

¹ Bi-State initially filed this petition for exemption on October 1, 2009, but supplemented it on November 2, 2009, to comply with the newspaper publication requirements of 49 CFR 1105.12. Under that provision, a petitioner must notify the public by publishing a notice of the proposed action in a newspaper of general circulation in each county that the line traverses and must certify to the Board that it has done so by the date its petition is filed. On November 2, 2009, Bi-State certified to the Board that it has satisfied the newspaper publication requirement. Therefore, November 2, 2009, will be considered the official filing date of the petition for exemption.

According to Bi-State, the line does not contain federally granted rights-of-way. Any documentation in Bi-State's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by February 19, 2010.

Any offer of financial assistance (OFA) under 49 CFR 1152.27(b)(2) to subsidize continued rail service will be due no later than 10 days after service of a decision granting the petition for exemption. Each offer must be accompanied by a $1,500 filing fee. See 49 CFR 1002.2(f)(25).²

² Because this is a discontinuance proceeding and not an abandonment, trail use/rail banking and public use conditions are not appropriate. Similarly, no environmental or historic documentation is required under 49 CFR1105.6(c)(2) and 1105.8.

All filings in response to this notice must refer to STB Docket No. AB-331 (Sub-No. 1X), and must be sent to: (1) Surface Transportation Board, 395 E Street, SW., Washington, DC 20423-0001; and (2) Theodore J. Williams, Jr., Williams Venker & Sanders LLC, 100 North Broadway, Suite 2100, St. Louis, MO 63102. Replies to the Bi-State petition are due on or before December 10, 2009.

Persons seeking further information concerning discontinuance procedures may contact the Board's Office of Public Assistance, Governmental Affairs, and Compliance at (202) 245-0230 or refer to the full abandonment and discontinuance regulations at 49 CFR part 1152. Questions concerning environmental issues may be directed to the Board's Section of Environmental Analysis (SEA) at (202) 245-0305. Assistance for the hearing impaired is available through the Federal Information Relay Service (FIRS) at 1-800-877-8339.

Board decisions and notices are available on our Web site at: http://www.stb.dot.gov.

Decided: November 13, 2009.
By the Board, Rachel D. Campbell, Director, Office of Proceedings.
Anne K. Quinlan,
Acting Secretary.

[FR Doc. E9-27794 Filed 11-19-09; 8:45 am]

BILLING CODE 4915-01-P